DEPARTMENT OF JUSTICE

Notice of Lodging of Stipulation of Judgment Pursuant to Safe Drinking Water Act

Notice is hereby given that on March 28, 2011, a proposed Stipulation of Judgment in United States of America v. Territory of the Virgin Islands, et al., Civil Action No. 3:09-cv-00156, was lodged with the United States District Court for the District of the Virgin Islands.

The proposed Stipulation of Judgment will settle claims of the United States (on behalf of the Environmental Protection Agency), for violations of the Safe Drinking Water Act and the implementing regulations, 42 U.S.C. 300h, et seq., and the implementing Underground Injection Control (“UIC”) regulations promulgated thereunder, at 40 CFR part 144, et seq. (the “SDWA”), against the government of the Territory of the Virgin Islands and the Virgin Islands Department of Health relating to past unauthorized discharges to an underground injection well which occurred in 2008 and 2009. The discharges have ceased. Pursuant to the proposed Stipulation, the Defendants will pay $175,000 in civil penalties.

The Department of Justice will receive for a period of 30 days from the date of this publication comments relating to the proposed Stipulation. Comments should be addressed to the Assistant Attorney General of the Environment and Natural Resources Division, Department of Justice, Washington, DC 20530, and should refer to United States of America v. Territory of the Virgin Islands, et al., Civil Action No. 3:09-cv-00156, D.J. Ref. 90-5-1-1-09680.

Comments should be addressed to the Assistant Attorney General, Environment and Natural Resources Division, and either e-mailed to pubcomment-ees.enrd@usdoj.gov or mailed to P.O. Box 7611, U.S. Department of Justice, Washington, DC 20044-7611, and should refer to United States of America v. Territory of the Virgin Islands, et al., Civil Action No. 3:09-cv-00156, D.J. Ref. 90-5-1-1-09608.

During the public comment period, the Stipulation of Judgment may also be examined on the following Department of Justice Web site to: http://www.usdoj.gov/enrd/Consent_Decrees.html. A copy of the Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.75 (25 cents per page reproduction costs of Stipulation) payable to the U.S. Treasury or, if by e-mail or fax, forward a check in that amount to the Consent Decree Library at the stated address.

Ronald Gluck,
Assistant Chief, Environmental Enforcement Section, Environment and Natural Resources Division.

[FR Doc. 2011-8064 Filed 4-5-11; 8:45 am]

BILLING CODE 4410-15-P